DEPARTMENT OF AGRICULTURE

Forest Service

Deschutes and Ochoco National Forests Resource Advisory Committee

AGENCY: Forest Service, USDA.

ACTION: Notice of meeting.

SUMMARY: The Deschutes and Ochoco National Forests Resource Advisory Committee will meet in Redmond, Oregon. The purpose of the meeting is to review proposed projects and make recommendations under Title II of the Secure Rural Schools and Community Self-Determination Act of 2000.

DATES: The meeting will be held August 28, 2007 from 9 a.m. to 5 p.m. If the project selection process is not complete on August 28, the Committee will meet again on August 29, 2007, from 9 a.m. to 12 p.m.

ADDRESSES: The meeting will be held at the office of the Central Oregon Intergovernmental Council, 2363 SW. Glacier Place, Redmond, Oregon 97756. Send written comments to Jeff Walter, Designated Federal Official, for the Deschutes and Ochoco Resource Advisory Committee, c/o Forest Service, USDA, Ochoco National Forest, 3160 NE 3rd St., Prineville, OR 97754 or electronically to jwalter@fs.fed.us.

FOR FURTHER INFORMATION CONTACT: Jeff Walter, Designated Federal Official, Ochoco National Forest, 541-416-6625.

SUPPLEMENTARY INFORMATION: The meeting is open to the public. Committee discussion is limited to Forest Service staff and Committee members. However, persons who wish to bring Title II matters to the attention of the Committee may file written statements with the Committee staff before the meeting. A public input session will be provided and individuals who made written requests by June 29 will have the opportunity to address the committee at the session.

Dated: July 26, 2007.
Jeff Walter,
Forest Supervisor, Designated Federal Official.

[FR Doc. 07-3859 Filed 8-7-07; 8:45 am]

BILLING CODE 3410-11-M